DEPARTMENT OF AGRICULTURE

Rural Business-Cooperative Service

Notice of Solicitation of Applications for the Intermediary Relending Program

AGENCY: Rural Business-Cooperative Service, USDA.

ACTION: Notice.

SUMMARY: This Notice of Solicitation of Applications (NOSA) announces the acceptance of applications under the Intermediary Relending Program (IRP) to provide direct loans to intermediaries that establish programs for the purpose of providing loans to ultimate recipients for business facilities and community developments in a rural area. The Agency will make awards each Federal fiscal quarter following the appropriation of funding. In the event all program funds are not obligated in a quarter, the remaining unobligated funds will be carried over to the subsequent quarter. This Notice is being issued prior to a determination of Fiscal Year 2013 funding for this program in order to allow applicants sufficient time to prepare and submit their applications and to provide the Agency time to process applications within Fiscal Year 2013. The Agency will publish a subsequent notice in the Federal Register identifying the program funding available for Fiscal Year 2013 for this program.

DATES: For Fiscal Year 2013, applications for regular IRP funding must be received by March 29, 2013, and June 28, 2013, for consideration for Fiscal Year 2013 funds. Requests for set-aside funding must be received by April 30, 2013. Unused set-aside funding will be pooled and revert to the national reserve on July 1, 2013. Applications received after June 28, 2013, may be considered for funding in Fiscal Year 2013, subject to availability of funds or will be considered for award of funds available in the first quarter of Fiscal Year 2014, if permitted.

ADDRESSES: See the SUPPLEMENTARY INFORMATION for addresses concerning IRP applications for Fiscal Year 2013 funds.

FOR FURTHER INFORMATION CONTACT: For further information on this Notice, please contact the U.S. Department of Agriculture (USDA) Rural Development State Office for your respective State, as provided in the SUPPLEMENTARY INFORMATION section of this Notice.

SUPPLEMENTARY INFORMATION:

Fiscal Year 2013 Applications for the Intermediary Relending Program

Applications. Applications and forms may be obtained from any Rural Development State Office. Applicants must submit an original complete application to the USDA Rural Development State Office in the State where the applicant's project is located. A list of the USDA Rural Development State Offices addresses and telephone numbers are listed below.

Rural Development State Offices

Note: Telephone numbers listed are not toll-free.

Alabama

USDA Rural Development State Office

Sterling Centre, Suite 601

4121 Carmichael Road

Montgomery, AL 36106-3683

(334) 279-3400/FAX (334) 279-3495

Alaska

USDA Rural Development State Office

800 West Evergreen, Suite 201

Palmer, AK 99645-6539

(907) 761-7707/FAX (907) 761-7783

Arizona

USDA Rural Development State Office

230 N. 1st Ave., Suite 206

Phoenix, AZ 85003-1706

(602) 280-8701/FAX (602) 280-8881

Arkansas

USDA Rural Development State Office

700 West Capitol Avenue, Room 3416

Little Rock, AR 72201-3225

(501) 301-3200/FAX (501) 301-3278

California

USDA Rural Development State Office

430 G Street, # 4169

Davis, CA 95616-4169

(530) 792-5800/FAX (530) 792-5837

Colorado

USDA Rural Development State Office

Denver Federal Center

Building 56, Room 2300

Denver, CO 80225-0426

(720) 544-2903/FAX (720) 544-29781

Delaware-Maryland

USDA Rural Development State Office

1221 College Park Drive, Suite 200

Dover, DE 19904

(302) 857-3580/FAX (302) 857-3640

Florida/Virgin Islands

USDA Rural Development State Office

4440 NW 25th Place

Gainesville, FL 32614-7010

(352) 338-3402/FAX (352) 338-3405

Georgia

USDA Rural Development State Office

Stephens Federal Building

355 E. Hancock Avenue

Athens, GA 30601-2768

(706) 546-2162/FAX (706) 546-2152

Hawaii

USDA Rural Development State Office

Federal Building, Room 311

154 Waianuenue Avenue

Hilo, HI 96720

(808) 933-8380/FAX (808) 933-8327

Idaho

USDA Rural Development State Office

9173 West Barnes Dr., Suite A1

Boise, ID 83709

(208) 378-5600/FAX (208) 378-5643

Illinois

USDA Rural Development State Office

2118 West Park Court, Suite A

Champaign, IL 61821

(217) 403-6200/FAX (217) 403-6243

Indiana

USDA Rural Development State Office

5975 Lakeside Boulevard

Indianapolis, IN 46278

(317) 290-3100 ext. 4/FAX (317) 290-3127

Iowa

USDA Rural Development State Office

Federal Building, Room 873

210 Walnut Street

Des Moines, IA 50309

(515) 284-4663/FAX (515) 284-4859

Kansas

USDA Rural Development State Office

1303 SW. First American Place, Suite 100

Topeka, KS 66604-4040

(785) 271-2700/FAX (785) 271-2708

Kentucky

USDA Rural Development State Office

771 Corporate Drive, Suite 200

Lexington, KY 40503

(859) 224-7300/FAX (859) 224-7340

Louisiana

USDA Rural Development State Office

3727 Government Street

Alexandria, LA 71302

(318) 473-7920/FAX (318) 473-7661

Maine

USDA Rural Development State Office

967 Illinois Avenue, Suite 4

Bangor, ME 04401-2767

(207) 990-9160/FAX (207) 990-9165

Massachusetts/Rhode Island/Connecticut

USDA Rural Development State Office

451 West Street, Suite 2

Amherst, MA 01002-2999

(413) 253-4300/FAX (413) 253-4347

Michigan

USDA Rural Development State Office

3001 Coolidge Road, Suite 200

East Lansing, MI 48823

(517) 324-5190/FAX (517) 324-5225

Minnesota

USDA Rural Development State Office

375 Jackson Street, Suite 410

St. Paul, MN 55101-1853

(651) 602-7800/FAX (651) 602-7824

Mississippi

USDA Rural Development State Office

Federal Building, Suite 831

100 W. Capitol Street

Jackson, MS 39269-1608

(601) 965-4316/FAX (601) 965-4088

Missouri

USDA Rural Development State Office

601 Business Loop 70 West

Parkade Center, Suite 235

Columbia, MO 65203-2579

(573) 876-0976/FAX (573) 876-0977

Montana

USDA Rural Development State Office

2229 Boot Hill Court

Bozeman, MT 59715

(406) 585-2530/FAX (406) 585-2565

Nebraska

USDA Rural Development State Office

Federal Building, Room 152

100 Centennial Mall North

Lincoln, NE 68508-3859

(402) 437-5551/FAX (402) 437-5408

Nevada

USDA Rural Development State Office

1390 South Curry Street

Carson City, NV 89703-9910

(775) 887-1222/FAX (775) 885-0841

New Jersey

USDA Rural Development State Office

8000 Midlantic Drive

5th Floor North, Suite 500

Mt. Laurel, NJ 08054-1522

(856) 787-7700/FAX (856) 787-7783

New Mexico

USDA Rural Development State Office

6200 Jefferson Street, NE., Room 255

Albuquerque, NM 87109-3434

(505) 761-4950/FAX (505) 761-4976

New York

USDA Rural Development State Office

The Galleries of Syracuse

441 South Salina Street, Suite 357

Syracuse, NY 13202-2541

(315) 477-6400/FAX (315) 477-6438

North Carolina

USDA Rural Development State Office

4405 Bland Road, Suite 260

Raleigh, NC 27609

(919) 873-2000/FAX (919) 873-2075

North Dakota

USDA Rural Development State Office

Federal Building, Room 208

220 East Rosser

Bismarck, ND 58502-1737

(701) 530-2037/FAX (701) 530-2111

Ohio

USDA Rural Development State Office

Federal Building, Room 507

200 North High Street

Columbus, OH 43215-2418

(614) 255-2400/FAX (614) 255-2561

Oklahoma

USDA Rural Development State Office

100 USDA, Suite 108

Stillwater, OK 74074-2654

(405) 742-1000/FAX (405) 742-1005

Oregon

USDA Rural Development State Office

1201 NE Lloyd Blvd., Suite 801

Portland, OR 97232-1274

(503) 414-3300/FAX (503) 414-3387

Pennsylvania

USDA Rural Development State Office

One Credit Union Place, Suite 330

Harrisburg, PA 17110-2996

(717) 237-2299/FAX (717) 237-2191

Puerto Rico

USDA Rural Development State Office

IBM Building, Suite 601

654 Munos Rivera Avenue

San Juan, PR 00936-6106

(787) 766-5095/FAX (787) 766-5844

South Carolina

USDA Rural Development State Office

Strom Thurmond Federal Building

1835 Assembly Street, Room 1007

Columbia, SC 29201-2449

(803) 765-5163/FAX (803) 765-5633

South Dakota

USDA Rural Development State Office

Federal Building, Room 210

200 Fourth Street, SW

Huron, SD 57350-2461

(605) 352-1100/FAX (605) 352-1146

Tennessee

USDA Rural Development State Office

3322 West End Avenue, Suite 300

Nashville, TN 37203-1071

(615) 783-1300/FAX (615) 783-1301

Texas

USDA Rural Development State Office

Federal Building, Suite 102

101 South Main

Temple, TX 76501-7651

(254) 742-9700/FAX (254) 742-9709

Utah

USDA Rural Development State Office

Wallace F. Bennett Federal Building

125 South State Street, Room 4311

Salt Lake City, UT 84138-1106

(801) 524-4321/FAX (801) 524-4406

Vermont/New Hampshire

USDA Rural Development State Office

City Center, 3rd Floor

89 Main Street

Montpelier, VT 05602-4449

(802) 828-6080/FAX (802) 828-6076

Virginia

USDA Rural Development State Office

Culpeper Building, Suite 238

1606 Santa Rosa Road

Richmond, VA 23229-5014

(804) 287-1550/FAX (804) 287-17518

Washington

USDA Rural Development State Office

1835 Black Lake Boulevard SW., Suite B

Olympia, WA 98512-5715

(360) 704-7740/FAX (360) 704-7742

West Virginia

USDA Rural Development State Office

1550 Earl Core Road, Suite 101

Morgantown, WV 26505

(304) 284-4860/FAX (304) 284-4891

Wisconsin

USDA Rural Development State Office

5417 Clem's Way

Stevens Point, WI 54482

(715) 345-7600/FAX (715) 345-7669

Wyoming

USDA Rural Development State Office

Dick Cheney Federal Building

100 East B Street, Room 1005

Casper, WY 82601

(307) 233-6700/FAX (307) 233-6727

Paperwork Reduction Act

In accordance with the Paperwork Reduction Act, the information collection requirements associated with the IRP, as covered in this Notice, has been approved by the Office of Management and Budget (OMB) under OMB Control Number 0570-0062.

Overview

Federal Agency Name: Rural Business-Cooperative Service.

Solicitation Opportunity Title: Intermediary Relending Program.

Announcement Type: Initial announcement.

Catalog of Federal Domestic Assistance Number: The Catalog of Federal Domestic Assistance Number (CFDA) for this Notice is 10.767.

Dates: Completed applications must be received in the USDA Rural Development State Offices no later than the Federal fiscal quarter deadlines of March 29, 2013, and June 28, 2013, to be considered for funds available in Fiscal Year 2013. Requests for set-aside funding must be received by April 30, 2013. Unused set-aside funding will be pooled and revert to the national reserve on July 1, 2013. Applications received after a Federal fiscal quarter deadline will be reviewed and evaluated for funding in the next Federal fiscal quarter. Completed applications received after June 28, 2013, may be considered for funding in Fiscal Year 2013, subject to availability of funds or will be considered for award for funds available in the first quarter of Fiscal Year 2014.

Availability of Notice and Rule. This Notice for the IRP is available on the USDA Rural Development Web site at http://www.rurdev.usda.gov/BCP_IRP.html.

I. Funding Opportunity Description

A. Purpose of the Intermediary Relending Program. The program purpose is to provide direct loans to intermediaries that establish programs for the purpose of providing loans to ultimate recipients for business facilities and community developments in a rural area as defined in 7 CFR 4274.301(b).

B. Statutory Authority. This program is authorized by the Secretary of Agriculture via a note to 7 U.S.C. 1932.

C. Definition of Terms. The definitions applicable to this Notice are published at 7 CFR 4274.302.

II. Award Information

A. Type of Award: Loan.

B. Fiscal Year Funds: FY 2013.

C. Funding Availability: Based on historical funding for the program, the Agency anticipates the available program level in Fiscal Year 2013 will approximate $17.7 million. Of this total, $2.5 million will be available for Native American Set-Aside and $5.1 million will be available for Mississippi Delta Region Counties Set-Aside. No awards will be made until funding is available.

Requests for set-aside funding must be received by April 30, 2013. Unused set-aside funding will be pooled and revert to the national reserve on July 1, 2013, IRP regular funding must be obligated by September 30, 2013. In the event some program funds allocated for a particular quarter of Fiscal Year 2013 are not obligated, the remaining unobligated funds will be carried over to the next Federal fiscal quarter.

D. Approximate Number of Awards: 25.

E. Awards: Intermediaries submitting a loan request may receive a maximum award up to $1 million. Requests for set-aside funding may receive a maximum award up to $1 million.

F. Anticipated Award Dates:

• June 28, 2013 for applications received by March 29, 2013.

• September 20, 2013 for applications received by June 28, 2013.

• December 31, 2013 for applications received by September 30, 2013.

III. Eligibility Information

A. Eligible applicants. To be eligible for this program, the applicant must meet the eligibility requirements in 7 CFR 4274.307.

B. Corporate Felony Convictions and Corporate Felony Tax Delinquencies. Applications from corporate applicants, submitted under this Notice must include Form AD 3030, “Representations Regarding Felony Conviction and Tax Delinquent Status for Corporate Applicants.” Awards to corporate applicants, under this Notice will be required to sign Form AD 3031, “Assurance Regarding Felony Conviction or Tax Delinquent Status for Corporate Applicants.”

C. Cost share requirements. The IRP revolving fund share of the eligible project cost of an intermediary's project funded under this Notice shall not exceed 75 percent. The cost share requirement shall be met by the intermediary in accordance with the requirements specified in 7 CFR 4274.331(b).

D. Other eligibility requirements. Applications will only be accepted from eligible intermediaries. Awards each Federal fiscal quarter will be based on ranking with the highest ranking applications being funded first, subject to available funding.

E. Completeness eligibility. All applications must be submitted as a complete application, in one package. Applications will not be considered for funding if they do not provide sufficient information to determine eligibility or are otherwise not suitable for evaluation. Such applications will be withdrawn.

IV. Fiscal Year 2013 Application and Submission Information

A. Application submittal. Loan applications must be submitted in paper format. Applications may not be submitted by electronic mail.

Applications must be organized in the same order set forth in 7 CFR 4274.343(a). To ensure timely delivery, applicants are strongly encouraged to submit their applications using an overnight, express, or parcel delivery service.

All applicants must have a Dun and Bradstreet Data Universal Numbering System (DUNS) number, which can be obtained at no cost via a toll-free request line at 1-866-705-5711 or online at http://fedgov.dnb.com/webform. This also includes sub-recipients.

Please note that applicants can locate the downloadable application package for this program by the Catalog of Federal Domestic Assistance Number, which is 10.767.

B. Content and form of submission. An application must contain all of the required elements outlined in 7 CFR 4274.343(a). Each application must address the applicable scoring criteria presented in 7 CFR 4274.344(c).

C. Submission dates and times. The original complete application must be received by the USDA Rural Development State Office no later than 4:30 p.m. local time by the application deadline dates listed above, regardless of the postmark date, in order to be considered for funds available in that Federal fiscal quarter.

Unless withdrawn by the applicant, completed applications that have not yet been funded will be retained by the Agency for consideration in subsequent reviews through a total of four consecutive quarterly reviews. Applications that remain unfunded after four quarterly reviews, including the initial quarter in which the application was completed, will not be considered further for an award. The applicant must submit a new application at that time if it desires further funding consideration.

V. Application Review Information

Awards under this Notice will be made on a competitive basis each Federal fiscal quarter. Each application received in the USDA Rural Development State Office will be reviewed, scored, and ranked to determine if it is consistent with the program requirements. Applications will be scored based on the applicable scoring criteria contained in 7 CFR 4274.344(c).

VI. Award Administration Information

Successful applicants will receive notification for funding from the USDA Rural Development State Office. Applicants must comply with all applicable statutes and regulations before the award will be approved. Unsuccessful applications will receive notification by mail.

VII. Agency Contacts

For general questions about this Notice, please contact your USDA Rural Development State Office as provided in the Addresses section of this Notice.

Federal Funding Accountability and Transparency Act

All applicants, in accordance with 2 CFR part 25, must have a DUNS number, which can be obtained at no cost via a toll-free request line at 1-866-705-5711 or online at http://fedgov.dnb.com/webform. Similarly, all grant applicants must be registered in the System for Award Management (SAM) prior to submitting an application. Grant applicants may register for the SAM at http://www.sam.gov. All recipients of Federal financial assistance are required to report information about first-tier sub-awards and executive total compensation in accordance with 2 CFR part 170.

Nondiscrimination Statement

The U.S. Department of Agriculture (USDA) prohibits discrimination in all its programs and activities on the basis of race, color, national origin, age, disability, and, where applicable, sex, marital status, familial status, parental status, religion, sexual orientation, genetic information, political beliefs, reprisal, or because all or part of an individual's income is derived from any public assistance program. (Not all prohibited bases apply to all programs.) Persons with disabilities who require alternative means for communication of program information (Braille, large print, audiotape, etc.) should contact USDA's TARGET Center at (202) 720-2600 (voice and TDD).

To file a complaint of discrimination write to USDA, Director, Office of Civil Rights, 1400 Independence Avenue SW., Washington, DC 20250-9410, or call (800) 795-3272 (voice) or (202) 720-6382 (TDD). USDA is an equal opportunity provider, employer, and lender.

Dated: January 24, 2013.
Lillian E. Salerno,
Acting Administrator, Rural Business-Cooperative Service.

[FR Doc. 2013-08186 Filed 4-4-13; 11:15 am]

BILLING CODE 3410-XY-P